DEPARTMENT OF HEALTH AND HUMAN SERVICES

National Institutes of Health

Center for Scientific Review; Amended Notice of Meeting

Notice is hereby given of a change in the meeting of the Center for Scientific Review Special Emphasis Panel, November 17, 2009, 8 a.m. to November 18, 2009, 5 p.m., William F. Bolger Center, 9600 Newbridge Drive, Potomac, MD 20854 which was published in the Federal Register on October 22, 2009, 74 FR 54585-54586.

The meeting will be one day only November 17, 2009, from 8:30 a.m. to 8 p.m. The meeting location remains the same. The meeting is closed to the public.

Dated: October 23, 2009.
Jennifer Spaeth,
Director, Office of Federal Advisory Committee Policy.

[FR Doc. E9-26124 Filed 10-28-09; 8:45 am]

BILLING CODE 4140-01-P